DEPARTMENT OF HOUSING AND URBAN DEVELOPMENT

[Docket No. FR-4448-FA-03]

Announcement of Funding Awards for the Welfare-to-Work Section 8 Tenant-Based Assistance Program for Fiscal Year 1999

AGENCY: Office of Public and Indian Housing, HUD.

ACTION: Announcement of funding awards.

SUMMARY: In accordance with Section 102(a)(4)(C) of the Department of Housing and Urban Development Reform Act of 1989, this announcement notifies the public of funding decisions made by the Department in a competition for funding under the FY 1999 Notice of Funding Availability (NOFA) for the Welfare-to-Work Section 8 Tenant-Based Assistance Program. This announcement contains the consolidated names and addresses of those award recipients under the Section 8 Welfare-to-Work Rental Voucher program.

FOR FURTHER INFORMATION CONTACT: For questions concerning the Welfare-to-Work Section 8 Voucher awards, contact the Office of Public and Indian Housing's Grant Management Center, Director, Michael E. Diggs, Department of Housing and Urban Development, Washington, D.C., telephone (202) 358-0221. For the hearing or speech impaired, these numbers may be accessed via TTY (text telephone) by calling the Federal Information Relay Service at 1 (800) 877-8339. (Other than the “800” TTY number, these telephone numbers are not toll-free.)

SUPPLEMENTARY INFORMATION: This program provides tenant-based Section 8 rental assistance (vouchers) to help eligible families make the transition from welfare to work. Tenant-based Section 8 rental assistance is to be provided in connection with programs where housing agencies (HAs), Indian tribes and their tribally designated housing entities (TDHEs) have demonstrated that tenant-based rental assistance is critical to the success of eligible families in obtaining or retaining employment. No additional funding was provided under the NOFA for welfare-to-work services for families. Funding was only for Section 8 Welfare-to-Work rental voucher housing assistance and regular Section 8 administrative fees for administration of such housing assistance. The rental assistance provided must be coordinated with other welfare reform and welfare-to-work initiatives. Recipients awarded Welfare-to-Work vouchers may use some of their current pool of other Section 8 voucher funding to augment the welfare-to-work vouchers in order to enlarge the pool of vouchers available to those families qualifying for the recipient's approved welfare-to-work program.

The Fiscal Year 1999 awards announced in this Notice were selected for funding in a competition announced in a NOFA published in the Federal Register on January 28, 1999 (64 FR 4496). Applications were scored and selected for funding based on the selection criteria in that Notice and a national competition.

The amount appropriated in Fiscal Year 1999 to fund Welfare-to-Work Rental Vouchers was $283,000,000. Of that amount, $2.83 million was reserved for HUD to conduct a detailed evaluation of the effect of providing Section 8 Welfare-to-Work Rental Voucher assistance. Another $32,340,700 was awarded to 8 HAs for local self-sufficiency/welfare-to-work initiatives in 8 set-aside communities under a separate Notice of Funding Availability (NOFA) published March 8, 1999. The remaining $247,829,300 was made available to fund 113 applications in rank order beginning with the highest scoring application under the national competition, and inclusive of 121 HAs and/or tribes/TDHEs funded, when accounting for multiple HAs in neighboring jurisdictions filing under one joint application. In accordance with Section 102(a)(4)(C) of the Department of Housing and Urban Development Reform Act of 1989 (103 Stat. 1987, 42 U.S.C. 3545), the Department is publishing the names, addresses, and amounts of the 121 awards made under the national competition, including joint applicants, and the 8 set-aside awards in Appendix A to this document.

Dated: July 24, 2000.
Harold Lucas,
Assistant Secretary for Public and Indian Housing.

APPENDIX A

Notice of Funding Availability for the FY 1999 Public and Indian Housing Section 8 Tenant-Based Assistance Program
Applicant | Contact | Street Address | City | State | Zip | Funding | Units
1 Housing Authority of Walker County | Charles D. Barton | P.O. Box 607 | Dora | Alabama | 35062 | 152,469 | 69
2 Housing Authority of Prichard | Charles Pharr | 800 Hinson Avenue | Pritchard | Alabama | 36610 | 2,593,879 | 525
3 Phoenix Housing Authority | James Boozer | 830 East Jefferson St. | Phoenix | Arizona | 85034 | 331,821 | 50
4 Los Angeles County | Carlos Jackson | 4800 E Cesar Chavez Ave | Los Angeles | California | 90022 | 4,358,125 | 700
5 Los Angeles City | Donald J. Smith | 2600 Wilshire Blvd. | Los Angeles | California | 90057 | 4,850,684 | 700
6 Housing Authority of Fresno City | Edward L. Stacey | 1331 Fulton Hall P.O. Box 11985 | Fresno | California | 93776-1985 | 2,666,969 | 700
J* Housing Authority of Fresno County | Edward L. Stacey | 1331 Fulton Hall P.O. Box 11985 | Fresno | California | 93776-1985 | 2,666,969 | 700
7 Sacramento Co. Housing Authority | Anne Moore | 630 I St. | Sacramento | California | 95814 | 3,318,718 | 700
8 Merced Housing Authority | Mitchell C. Sperling | 405 U St. | Merced | California | 95340 | 2,086,811 | 400
9 San Joaquin Housing Authority | Antonio Pizano | P. O. Box 447 | Stockton | California | 95201 | 2,543,047 | 700
10 Tulare Housing Authority | Tim Sciacqua | Housing Authority of Tulare P.O. Box 791 | Visalia | California | 93279 | 1,300,303 | 400
11 Monterey Housing Authority | James Nakashima | 123 Rico St. | Salinas | California | 93907 | 2,240,073 | 450
12 Marin Housing Authority | Janet Miller Schoder | 4020 Civic Center Dr. | San Rafael | California | 94903 | 598,317 | 60
13 Vallejo Housing Authority | Gary W. Truelson | 251 Georgia St. PO Box 1432 | Vallejo | California | 94590 | 3,653,401 | 639
14 San Jose City Housing Authority | John C. Burns | 505 W. Julian St. | San Jose | California | 95110 | 3,861,432 | 366
15 Santa Clara Housing Authority | John C. Burns | 505 W. Julian Street | San Jose | California | 95110 | 7,395,824 | 700
16 Almeda City Housing Authority | Ophelia Basgal | 22941 Atherton St. | Hayward | California | 94541-6633 | 689,835 | 100
17 Plumas Co | Martin Zone | P. O. Box 319 | Quincy | California | 95971 | 200,331 | 60
18 Anaheim Housing Authority | Elisa Stipkovich | 201 S. Anaheim Suite 203 | Anaheim | California | 92805 | 3,946,239 | 700
19 Culver City | Jody Hall-Esser | 9770 Culver Blvd | Culver City | California | 90232 | 353,696 | 75
20 Norwalk Housing Authority | Ernie Garcia | 12035 Firestone Blvd | Norwalk | California | 90650 | 563,947 | 100
21 Colorado Springs Housing Authority | Richard Sullivan | 30 South Nevada Suite 304 | Colorado Springs | Colorado | 80903 | 630,976 | 125
22 Jefferson County Housing Authority | Alan Feinstein | 6025 W. 38th Avenue | Wheat Ridge | Colorado | 80033 | 1,023,253 | 200
23 Colorado Dept. of Human Services | Marva L. Hammons | 4131 S. Julian Way | Denver | Colorado | 80236 | 1,095,885 | 160
24 Department of Social Services | Rita M. Pacheco | 25 Sigourney St. | Hartford | Connecticut | 06106 | 9,139,184 | 1489
25 Tampa Housing Authority | Jerome D. Ryans | 1514 Union St. | Tampa | Florida | 33607 | 2,725,197 | 450
26 Lakeland Housing Authority | Herbert Hernandez | P. O. Box 1009 | Lakeland | Florida | 33802-1009 | 1,195,353 | 373
27 Broward County | Kevin Cregan | 1773 North State Rd 7 | Lauderhill | Florida | 33313 | 1,653,268 | 250
J* Fort Lauderdale | William Lindsey | 437 S.W. 4th Avenue | Fort Lauderdale | Florida | 33315 | 1,023,917 | 150
J* Pompano Beach | Ralph Adderly | P.O. Box 2006 | Pompano Beach | Florida | 33061-2006 | 387,039 | 75
J* Hollywood | Teresa Vomsaal | 7300 North Davie RD Extension | Hollywood | Florida | 33024 | 638,764 | 100
28 Augusta Housing Authority | Jacob Ogelsby | P.O. Box 3246 | Augusta | Georgia | 30914-3246 | 1,961,301 | 700
29 Atlanta Housing Authority | Renee Lewis Glover | 1720 Peachtree St., NW Suite 500 | Atlanta | Georgia | 30309 | 3,372,579 | 450
30 Georgia Department of Community Affairs | Terry Ball | 60 Executive Park South, NE | Atlanta | Georgia | 30329 | 8,242,737 | 2000
31 Hawaii Co Housing Authority | Stephen K. Yamashiro | 50 Wailuku Dr. | Hilo | Hawaii | 96720 | 909,974 | 200
32 Maui County Housing Authority | James H. Apana | 200 South High St | Wailuku, Maui | Hawaii | 96793 | 3,326,754 | 370
33 Hawaii HCDC (Honolulu) | Donald K. W. Lau | Housing & Community Developm P.O. Box 17907 | Honolulu | Hawaii | 96817 | 7,043,055 | 1108
34 Chicago HA | Joseph Shuldiner | 626 West Jackson Blvd | Chicago | Illinois | 60661 | 4,059,616 | 700
J* Lake County | Alon Jeffrey | 33928 North Route 45 | Grayslake | Illinois | 60030-1700 | 411,039 | 75
J* DuPage County | John Day | 128A S. County Farm Rd. | Wheaton | Illinois | 60187 | 1,129,246 | 150
J* Cook County | Gary Jump | 310 S. Michigan 15th Floor | Chicago | Illinois |  | 627,202 | 100
35 Champaign Housing Authority | Elawence Davis | 205 W. Park Ave. | Champaign | Illinois | 61820 | 1,322,983 | 200
36 Housing of Hopkinsville | William L. Jones | 400 North Elm St. P.O. Box 437 | Hopkinsville | Kentucky | 42241-0437 | 241,658 | 60
37 Housing Authority of Pike County | Gaye Newsome | PO Box 1468 | Pikeville | Kentucky | 41502 | 620,501 | 185
38 Boston Housing Authority | Sandra B. Henriquez | 52 Chauncy St | Boston | Massachusetts | 02111 | 3,337,263 | 300
39 Massachusetts Dept. of Hsg & Comm Dev. | Jane W. Gamble | One Congress St. | Boston | Massachusetts | 02114 | 13,041,671 | 2000
40 Housing Authority of Baltimore City | Daniel Henson | 417 E Fayette St. | Baltimore | Maryland | 21202 | 4,120,895 | 700
41 Housing Opportunities Commission | Richard J. Ferrara | 10400 Detrick Ave. | Kensington | Maryland | 20895 | 1,586,185 | 200
42 Housing Authority of Rockville | George T. Young | 14 Moore Dr. | Rockville | Maryland | 20850 | 411,952 | 50
43 St. Mary's County Housing Authority | Dennis Nicholson | 23115 Leonard Hall Dr. P.O. Box 653 | Leonardtown | Maryland | 20650 | 1,024,513 | 200
44 Baltimore County Dept of Social Services | Lois B. Cramer | One Investment Place | Suite P-3 Towson | Maryland | 21204 | 2,047,776 | 700
45 Plymouth (Wayne) | Sharon Lee Thomas | 1160 Sheridan | Plymouth | Michigan | 48170 | 2,831,688 | 408
46 Ann Arbor HC (Wahtenaw) | Elizabeth A. Lindsley | 727 Miller Ave | Plaza 1, 5th Floor | Ann Arbor Michigan | 48103 | 1,361,970 | 250
47 Grand Rapids HC | Carlos A. Sanchez | 1420 Fuller, SE | Grand Rapids | Michigan | 49507 | 914,187 | 250
48 Wyoming | Michelle R. Scott | 2450 36th St SW | Wyoming | Michigan | 49509 | 783,934 | 175
49 MSHDA—Benton Harbor | Larry Valencic | 401 South Washington Square | P.O. Box 30044 Lansing | Michigan | 48909 | 66,206 | 20
50 MSHDA—Muskegon/Holland | Larry Valencic | 401 South Washington Square | P.O. Box 30044 Lansing | Michigan | 48909 | 601,069 | 160
51 MSHDA—Grand Rapids (non-metro) | Larry Valencic | 401 South Washington Square | P.O. Box 30044 Lansing | Michigan | 48909 | 1,984,861 | 500
52 | MSHDA—Jackson | Larry Valencic | 401 South Washington Square P.O. Box 30044 Lansing | Michigan | 48909 | 65,639 | 20
53 MSHDA—Lansing | Larry Valencic | 401 South Washington Square | P.O. Box 30044 Lansing | Michigan | 48909 | 213,031 | 50
54 St. Paul Housing Authority | Barbara Sporlein | 480 Cedar St | St. Paul | Minnesota | 55101 | 250,533 | 45
55 Metropolitan Council HRA | James Solem | 230 East Fifth St. | St. Paul | Minnesota | 55101 | 646,278 | 150
56 Billings Housing Authority | Lucy Brown | 2415 1st Ave. North | Billings | Montana | 59101 | 303,787 | 75
J* Missoula Housing Authority | Edward Mayer | 1319 E. Broadway Missoula | Montana | 59802 | 146,014 | 40
57 Raleigh Housing Authoirty | Steve Beam | P.O. Box 28007 | Raleigh | North Carolina | 27611-8007 | 3,942,569 | 700
58 Laurinburg Housing Authority | Nancy Walker | P. O. Box 1437 | Laurinburg | North Carolina | 28353 | 290,229 | 100
59 Northwestern Regional Housing Authority | EG Ned Fowler | P. O. Box 2510 | Boone | North Carolina | 28607 | 354,580 | 100
60 New Hampshire Housing Finance Authority | Claire Monier | P. O. Box 5087 | Manchester | New Hampshire | 03108 | 2,571,740 | 500
61 Newark Housing Authority | Robert Graham | 57 Sussex Ave | Newark | New Jersey | 07103 | 5,271,130 | 700
62 Perth Amboy Housing Authority | Douglas Dzema | 881 Amboy Ave PO Box 390 | Perth Amboy | New Jersey | 08862 | 1,326,589 | 160
63 West New York Housing Authority | Robert DiVincent | 6100 Adams St | West New York | New Jersey | 07093 | 955,780 | 146
64 Bergen County Housing Authority | Jack R. D'Ambrosio | 21 Main St—Court Plaza South Room 307W | Hackensack | New Jersey | 76017000 | 4,809,722 | 700
65 Monmouth County Housing Authority | Harry Larrison, Jr. | Monmouth County Hsg Agy PO Box 3000 | Freehold | New Jersey | 07728 | 3,624,354 | 500
66 Albuquerque Housing Authority | Gerald Ortiz y Pino P. O. Box 1292 |  | Albuquerque | New Mexico | 87103 | 3,155,326 | 700
67 Las Vegas Housing Authority | Frederick A. Brown | 420 N. 10th St. | Las Vegas | Nevada | 89101 | 4,713,157 | 700
68 New York Housing Authority | Paul Graziano | 250 Broadway | New York | New York | 10007 | 5,767,747 | 700
69 Albany NY Housing Authority | Steven Longo | 4 Lincoln Square | Albany | New York | 12202-1632 | 2,196,332 | 497
70 Rochester Housing Authority | Thomas McHugh | 140 West Ave | Rochester | New York | 14611 | 1,875,010 | 450
71 Geneva Housing Authority | Andrew Tyman | P. O. Box 153 | Geneva | New York | 14456 | 222,724 | 50
72 City of Niagara Falls Housing Authority | James C. Galie | 1022 Main St. PO Box 69 | Niagara Falls | New York | 14302-0069 | 277,302 | 100
73 Town of Colonie Housing Authority | Mary Brizzell | Memorial Town Hall | Newtonville | New York | 12128 | 174,563 | 50
74 Lucas MHA | Dennis Morgan | 211 S Byrne Rd | Toledo | Ohio | 43615 | 836,030 | 200
75 Akron MHA | Anthony W. O'Leary | 100 West Cedar St. | Akron | Ohio | 44307 | 348,854 | 100
76 Zanesville MHA | Philip Allen | 407 Pershing Rd. | Zanesville | Ohio | 43701 | 147,647 | 50
77 Licking Housing Authority | Sylvia Ray Taylor | 85 West Church Street | Newark | Ohio | 43055 | 411,459 | 100
78 Hamilton MHA | David Krings | 138 East Court St Room 507 | Cincinnati | Ohio | 45202 | 420,445 | 100
79Housing Authority of the Cherokee Nation | David Sutherland | Cherokee Nation HA PO Box 1007 | Tahlequah | Oklahoma | 74465 | 3,054,381 | 638
80 Tulsa Housing Authority | Roy Hancock | 415 E. Independence P. O. Box 6369 | Tulsa | Oklahoma | 74148-0369 | 2,267,702 | 400
81 Norman Housing Authority | Kay Absher | 700 North Berry Rd. | Norman | Oklahoma | 73069 | 390,872 | 100
82 Douglas County Housing Authority | E Ilona McCracken | 902 West Stanton St | Roseburg | Oregon | 97470 | 139,194 | 35
83 Housing Authority of the City of Salem | Marcia King | P. O. Box 808 | Salem | Oregon | 97308-0808 | 931,180 | 225
84 Washington County | Susan Wilson | 111 NE Lincoln St #200-L | Hillsboro | Oregon | 97124 | 3,158,812 | 700
J* Portland | Dennis L. West | 135 S.W. Ash St. | Portland | Oregon | 97204 | 4,344,065 | 700
85 Mid-Columbia | Ruby Mason | 506 East Second St. | The Dallas | Oregon | 97058 | 194,608 | 50
J* Umatilla County | Stanley Stradley | 155 S.W. 10th St. | Hermiston | Oregon | 97838 | 189,270 | 50
86 Central Oregon Regional Hsg Authority | Cyndy Cook | 2445 SW Canal Blvd | Redmond | Oregon | 97756 | 448,102 | 100
87 Confederated Tribes of Siletz | Connie Hoffman | Siletz Indian Housing Authorit PO Box 549 | Siletz | Oregon | 97380 | 214,677 | 37
88 Butler Co. Housing Authority | Perry O'Malley | P.O. Box 1917 | Butler | Pennsylvania | 16003-1917 | 1,180,584 | 300
89 Montgomery County Housing Authority | Ronald Jackson | 1875 New Hope St. | Norristown | Pennsylvania | 19401 | 309,204 | 50
90 Easton Housing Authority | Gary A. Smith | 157 S. 4th St. | Easton | Pennsylvania | 18044 | 245,500 | 50
91 Chester County Housing Authority | Troy L. Chapman | 30 West Barnard St. 1st Floor | West Chester | Pennsylvania | 19382 | 329,636 | 50
92 Aiken Housing Authority | Regional Barner | 100 Rodgers Terrace | Aiken | South Carolina | 29801 | 812,113 | 165
93 Chattanooga Housing Authority | Michael Kucharzak | 505 West ML King Blvd. P. O. Box 1486 | Chattanooga | Tennessee | 37401 | 2,631,924 | 650
94 Austin Housing Authority | James L. Hargrove | P.O. Box 6159 | Austin | Texas | 78762-6159 | 3,593,260 | 700
95 Houston Housing Authority | Ernie Etuk | Housing Authority of Houston PO Box 2971 | Houston | Texas | 77252-2971 | 3,596,301 | 700
96 City of Amarillo, Commty Service Division | John Ward | P. O. Box 1971 | Amarillo | Texas | 79101-1971 | 422,905 | 100
97 Hidalgo County Housing Authority | Mike Lopex | 1800 N. Texas Blvd. | Weslaco | Texas | 78596 | 322,844 | 100
98 Texoma Council of Governments (Fanning) | Frances Pelley | 3201 Texoma Parkway Suite 240 | Sherman | Texas | 75090 | 161,761 | 50
99 Texoma Council of Governments (Grayson) | Frances Pelley | 3201 Texoma Parkway Suite 240 | Sherman | Texas | 75090 | 376,453 | 100
100 Salt Lake County Housing Authority | Scott Lancelot | 3595 South Main St. | Salt Lake City | Utah | 84114 | 2,411,669 | 400
101 Salt Lake City | Rosemary Kappes | 1776 S. West Temple | Salt Lake City | Utah | 84115-1816 | 988,722 | 200
102 St. George Housing Authority | Brenda Butler | 975 N 1725 W #101 | St. George | Utah | 84770 | 292,083 | 80
103 Chesapeake Housing Authority | Brenda Willis | 1468 S. Military Highway P.O. Box 1304 | Chesapeake | Virginia | 23327 | 1,507,277 | 350
104 Virginia HDA (Bedford, Culpepper) | John Ritchie | 601 S. Belvidere St. | Richmond | Virginia | 23220 | 6,401,365 | 860
105 King County Housing Authorities | Stephen Norman | 120 Sixth Ave. North | Seattle | Washington | 98109-5003 | 4,306,414 | 700
J* Seattle Housing Authority | Harry Thomas | 120 Sixth Ave. North | Seattle | Washington | 98109-5003 | 4,564,687 | 700
106 Everett Housing Authority | Allan L. White | 3107 Colby | Everett | Washington | 98206-1547 | 4,219,735 | 575
J* Snohomish | Robert E. Davis | 12625 4th Avenue, West Suite 200 | Everett | Washington | 98204 | 3,667,860 | 700
107 Island County Housing Authority | Steven Gulliford | 7 NW 6th St. | Coupeville | Washington | 98239-3400 | 203,323 | 35
108 Bellingham/Whatcom County | John Harmon | P. O. Box 9701 | Bellington | Washington | 98227-9701 | 1,961,427 | 430
109 Thurston County Housing Authority | Christine Lowell | 503 West 4th Ave. | Olympia | Washington | 98501 | 1,279,537 | 250
110 Spokane Housing Authority | Mary Jo Harvey | W 55 Mission Suite 104 | Spokane | Washington | 99201-3298 | 2,468,483 | 700
111 City of Wala Wala |  |  |  | Washington |  | 252,722 | 75
112 Kenosha | Mark McCarthy | 625 52nd St Room 98 | Kenosha | Wisconsin | 53140-3480 | $746,495 | 200
113 Parkersburg Housing Authority | Donna J. Morris | 1901 Cameron Ave | Parkersburg | West Virginia | 26101 | $655,040 | 233
SUBTOTALS |  |  |  |  |  | 247,829,299 | 44798
1 Alaska Housing Finance Agency | Daniel R. Fauske | P.O. Box 101020 | Anchorage | Alaska | 99510 | 4,000,000 | 652
2 San Bernardino | John McGrath | 1053 North D St. | San Bernardino | California | 92410 | 4,000,000 | 700
3 Miami-Dade | Merrett Stierheim | 111 NW 1st St. 29th Floor | Miami | Florida | 33125 | 4,000,000 | 581
4 Prince Georges County | Jalal Green | 9400 Peppercorn Place Suite 200 | Largo | Maryland | 20774 | 4,000,000 | 469
5 Kansas City | Dallas Parks | 712 Broadway | Kansas City | Missouri | 64105 | 4,000,000 | 700
6 Charlotte Housing Authority | Harrison Shannon | P.O. Box 36795 | Charlotte | North Carolina | 28236 | 4,000,000 | 700
7 New York City DHPD | Richard T. Roberts | 100 Gold St | New York | New York | 10038 | 4,340,700 | 700
8 Cuyahoga | Terri Hamilton | 1441 West 25th St | Cleveland | Ohio | 44113 | 4,000,000 | 700
SUBTOTALS |  |  |  |  |  | 32,340,700 | 5202
HUD Evaluation Study |  |  |  |  |  | 2,830,000 |
TOTALS |  |  |  |  |  | 282,999,999 | 50000
J = joint application with multiple HAs

[FR Doc. 00-19193 Filed 7-28-00; 8:45 am]

BILLING CODE 4210-33-P